DEPARTMENT OF COMMERCE

International Trade Administration

[A-351-838, A-331-802, A-533-840, A-549-822]

Notice of Initiation of Administrative Reviews of the Antidumping Duty Orders on Certain Frozen Warmwater Shrimp From Brazil, Ecuador, India and Thailand

AGENCY: Import Administration, International Trade Administration, Department of Commerce.

SUMMARY: The Department of Commerce (“Department”) received timely requests to conduct administrative reviews of the antidumping duty orders on certain frozen warmwater shrimp (“shrimp”) from Brazil, Ecuador, India and Thailand. The anniversary month of these orders is February. In accordance with 19 CFR 351.222 of the Department's regulations, we are initiating these administrative reviews.

EFFECTIVE DATE: April 6, 2007.

FOR FURTHER INFORMATION CONTACT: Kate Johnson at (202) 482-4929 (Brazil), David Goldberger at (202) 482-4136 (Ecuador), Elizabeth Eastwood at (202) 482-3874 (India), and Irina Itkin at (202) 482-0656 (Thailand), AD/CVD Operations, Office 2, Import Administration, International Trade Administration, U.S. Department of Commerce, 14th Street and Constitution Avenue, NW., Washington, DC 20230.

Background

The Department received timely requests from petitioner,¹, the Louisiana Shrimp Association (“LSA”), and certain individual companies, in accordance with 19 CFR 351.213(b), during the anniversary month of February 2007, for administrative reviews of the antidumping duty orders on shrimp from Brazil, Ecuador, India, and Thailand covering 40 companies for Brazil, 64 companies for Ecuador, 313 companies for India, and 142 companies for Thailand. The Department is now initiating administrative reviews of the orders covering these companies.

¹ Ad Hoc Shrimp Trade Action Committee (“Petitioner”).

In accordance with the Department's recent statement in its notice of opportunity to request administrative reviews (see Antidumping or Countervailing Duty Order, Finding, or Suspended Investigation; Opportunity To Request Administrative Review, 72 FR 5007 (February 2, 2007)), we have not initiated administrative reviews with respect to those companies which the Department was unable to locate in prior segments and for which no new information as to the party's location was provided by the requestor. See “Incomplete Requests for Review” section of this notice for country-specific lists of the companies for which we did not initiate an administrative review.

Initiation of Reviews

In accordance with section 751(a)(1) of the Tariff Act of 1930, as amended (“the Act”), we are initiating administrative reviews of the antidumping duty orders on shrimp from Brazil, Ecuador, India and Thailand. We intend to issue the final results of these reviews on approximately February 28, 2008.

| Period to be reviewed
Antidumping Duty Proceeding
Brazil: Certain Frozen Warmwater Shrimp, A-351-838 | 2/1/06-1/31/07
Acarau Pesca Distr. de Pescado Imp. e Exp. Ltda
Amazonas Industria Alimenticias SA
Aquacultura Fortaleza Aquafort SA
Aquafeed do Brasil Ltda—Note 1
Aquática Maricultura do Brasil Ltda—Note 1
Artico S/A.
Bramex Brasil Mercantil Ltda
Camanor—Produtos Marinhos Ltda
Cida Central de Ind. E Distribuicao de Alimentos Ltda.—Note 2
Cina Cia Nordeste de Aquicultura Alimentacao
Compescal—Comércio de Pescado Aracatiense Ltda.—Note 3
Compex Industria E Comercio de Pesca E Exportacao Ltd
Empresa de Armazenagem Frigorifica Ltda.—Note 4
Guy Vautrin Importacao & Exportaco
Intermarin Servicios Nauticos
Ipesca
ITA Fish—S.W.F. Importacao e Exportacao Ltda
J K Pesca Ltda
Leardini Pescados Ltda
Lusomar Maricultura Ltda
Maricultura Netuno SA—Note 4
Maricultura Rio Grandense
Maricultura Tropical
Marine Maricultura do Nordeste SA—Note 5
MM Monteiro Pesca E Exportacao Ltda
Mucuripe Pesca Ltda., Epp
Natal Pesca
Norte Pesca SA
Orion Pesca Ltda
Pesqueira Maguary Ltda.—Note 6
Potiguar Alimentos do Mar Ltda.—Note 7
Potipora Aquacultura Ltda
Produmar—Cia Exportadora de Produtos do Mar—Note 2
Qualimar Comercio Importaçao E Exportacao Ltda
Santa Lavinia Comercio e Exportacio Ltda
Secom Aquicultura Comercio E Industria SA
SM Pescados Indústria Comércio E Exportacão Ltda
Sohagro Marina do Nordeste SA
Tecmares Maricultura Ltda
Torquato Pontes Pescados SA
Valencia da Bahia Maricultura SA
Ecuador: Certain Frozen Warmwater Shrimp, A-331-802 | 2/1/06-1/31/07
Agricola e Ind Ecuaplantatio
Agrol
Alberto Xavier Mosquera Rosado
Alquimia Marina S.A
Babychic S.A
Camarones
Comar Co Ltda
Doblertel S.A
Dunci S.A
El Rosario Ersa S.A
Empacadora Bilbo Bilbosa
Empacadora del Pacifico S.A., Edpacif S.A
Empacadora Dufer Cia. Ltda
Empacadora Gran Mar S.A. (Empagran)
Empacadora Nacional
Empacadora y Exportadora Calvi Cia. Ltda
Emprede
Estar C.A
Exporklore, S.A
Exportadora Bananera Noboa
Exportadora del Oceano Oceanexa C. A
Exportadora del Oceano Pacifico OCEANPAC
Fortumar Ecuador S.A
Gambas del Pacifico
Gondi, S.A
Hectorosa
Industrial Pesquera Santa Priscila S.A
Inepexa S.A
Jorge Luis Benitez Lopez
Karpicorp S.A
Luis Loaiza Alvarez
Mardex Cia. Ltda
Marines CA
Marisco (El Marisco)
Mariscos de Chupadores Chupamar
Mariscos del Ecuador c.l. Marecuador
NaturalSelect S.A
Negocios Industriales Real Nirsa SA
Novapesca S.A
OceanInvest S.A
Oceanmundo S.A
Oceanpro
Operadora y Procesadora de Productos Marinos S.A. (Omarsa)
Oyerly S.A
P.C. Seafood S.A
Pacfish S.A
PCC Congelados & Frescos S.A
Pescazul
Peslasa SA
Phillips Seafoods
Procesadora del Rio Proriosa S.A
Productos Cultivados del Mar Proc
Promarisco, S.A
Promarosa Productos
Sociedad Atlantico Pacifico
Sociedad Nacional de Galapagos
Soitgar
Studmark, S.A
Tecnica & Comercio de la Pesca Teco
Tolyp S.A
Transcity, S.A
Transmarina C.A
Transocean Ecuador
Unilines Transport System
India: Certain Frozen Warmwater Shrimp, A-533-840 | 2/1/06-1/31/07
Abad Fisheries
Accelerated Freeze-Drying Co. ######
A.S. Marine Industries Pvt. Ltd
Adani Exports Ltd
Aditya Udyog
Agri Marine Exports Ltd
Al Mustafa Exp & Imp
Alapatt Marine Exports
All Seas Marine P. Ltd
Allana Frozen Foods Pvt. Ltd
Allanasons Ltd
Alsa Marine & Harvests Ltd
Amalgam Foods & Beverages Limited
Ameena Enterprises
AMI Food Products
Amison Foods Ltd
Amison Seafoods Ltd
Amulya Sea Foods
Ananda Aqua Exports (P) Ltd
Ananda Foods
Andaman Seafoods Pvt. Ltd
Angelique Intl
Anjaneya Seafoods
Anjani Marine Traders
Apex Exports
Aqua Star Marine Foods
Arsha Seafood Exports Pvt. Ltd
ASF Seafoods
Asvini Exports
Asvini Fisheries Limited ######
Asvini Fisheries Private Limited
Aswin Associates
Ashwini Frozen Foods
Atta Export
Avanti Feeds Limited
Ayshwarya Seafood Private Limited
Baby Marine (Eastern) Exports
Baby Marine Exports
Baby Marine International
Baby Marine Products
Balaji Seafood Exports I Ltd
Baraka Overseas Traders
Bell Foods (Marine Division)
Bharat Seafoods
Bhatsons Aquatic Products
Bhavani Seafoods
Bhisti Exports
Bijaya Marine Products
Bilal Fish Suppliers
Blue Water Foods & Exports
Bluepark Seafoods Pvt. Ltd
BMR Exports
Brilliant Exports
Britto Exports
C P Aquaculture (India) Ltd
Calcutta Seafoods
Capital Freezing Complex
Capithan Exporting Co
Castlerock Fisheries Ltd
Castlerock Seafoods Ltd
Cham Exports Ltd
Cham Ocean Treasures Co., Ltd
Cham Trading Organization
Chand International
Chemmeens (Regd.)
Cherukattu Industries (Marine Div.)
Choice Canning Company
Choice Trading Corporation Pvt. Ltd
Coastal Corporation Ltd ##
Coastal Trawlers Ltd ##
Cochin Frozen Food Exports Pvt. Ltd
Corlim Marine Exports Pvt. Ltd
Corline Exports
Danda Fisheries
Dariapur Aquatic Pvt. Ltd
Deepmala Marine Exports
Devi Fisheries Limited
Devi Marine Food Exports Private Limited#
Devi Seafoods Limited ######
Dhanamjaya Impex P. Ltd
Diamond Seafoods Exports
Digha Seafood Exports
Dorothy Foods
Edhayam Frozen Foods Pvt. Ltd
El-Te Marine Products
Esmario Export Enterprises
Excel Ice Services/Chirag Int'l
Falcon Marine Exports Limited
Firoz & Company
Five Star Marine Exports Private Limited ######
Forstar Frozen Foods Pvt. Ltd
Freeze Engineering Industries (Pvt. Ltd.)
Frigerio Conserva Allana Limited
Frontline Exports Pvt. Ltd
G A Randerian Ltd
GKS Business Associates Pvt. Ltd
Gajula Exim P. Ltd
GausiaCold Storage P. Ltd
Gayatri Seafoods
Geo Aquatic Products (P) Ltd
Geo Seafoods
Global Sea Foods & Hotels Ltd
Goan Bounty
Gold Farm Foods (P) Ltd
Golden Star Cold Storage
Gopal Seafoods
Grandtrust Overseas (P) Ltd
Gtc Global Ltd
GVR Exports Pvt. Ltd
HA & R Enterprises
HIC AFB Special Foods Pvt. Ltd
Hanjar Ice and Cold Storage
Hanswati Exports P. Ltd
Haripriya Marine Food Exports
Haripriya Marine Export Pvt. Ltd
Hindustan Lever, Ltd
Hiravata Ice & Cold Storage
Hiravati Exports Pvt. Ltd
Hiravati International P. Ltd
HMG Industries Ltd
Honest Frozen Food Company
I Ahamed & Company
IFB Agro Industries Limited
India CMS Adani Exports
India Seafoods
Indian Aquatic Products
Indian Seafood Corporation
Innovative Foods Limited/Amalgam Foods Ltd ##### ######
Interfish
International Freezefish Exports
InterSeas Exports Corporation
Intersea
ITC Ltd
J R K Seafoods Pvt. Ltd
Jagadeesh Marine Exports
Jaya Satya Marine Exports
Jayalakshmi Sea Foods Pvt. Ltd ######
Jinny Marine Traders
K R M Marine Exports Ltd
K V Marine Exports #####
Kadalkanny Frozen Foods
Kader Exports Private Limited #
Kader Investment and Trading Company Private Limited #
Kalyanee Marine
Kaushalya Aqua Marine Product Exports Pvt. Ltd
Kay Kay Exports
Keshodwala Foods
Key Foods
King Fish Industries
Kings Marine Products
KNR Marine Exports
Koluthara Exports Ltd
Konark Aquatics & Exports Pvt. Ltd
Konkan Fisheries Pvt. Ltd
KRM Group
L.G. Seafoods
Lakshmi Marine Products
Lansea Foods Pvt. Ltd
Laxmi Narayan Exports
Lewis Natural Foods Ltd
Liberty Frozen Foods Private Limited #
Liberty Oil Mills#
Libran Cold Storages (P) Ltd
Lotus Sea Farms
M K Exports
M.R.H. Trading Company
Magnum Estate Private Limited
Magnum Export
Magnum Seafoods Private Limited
Malabar Marine Exports
Malnad Exports Pvt. Ltd
Mamta Cold Storage
Mangala Marine Exim Pvt. Ltd
Mangala Sea Products
Marina Marine Exports
Marine Food Packers
Meenaxi Fisheries Pvt. Ltd
Miki Exports International
MSC Marine Exporters #####
Mumbai Kamgar MGSM Ltd
N.C. Das & Company
Naga Hanuman Fish Packers
Naik Ice & Cold Storage
Naik Seafoods Ltd
Nas Fisheries Pvt Ltd
National Seafoods Company
National Steel
National Steel & Agro Ind
Navayuga Exports Ltd ######
Nekkanti Sea Foods Limited
New Royal Frozen Foods
Nezami Rekha Sea Food
NGR Aqua International
Nila Sea Foods Pvt. Ltd
Noble Aqua Pvt. Ltd
Nsil Exports
Omsons Marines Ltd
Padmaja Exports
Partytime Ice Pvt Ltd
Penver Products (P) Ltd
Philips Foods India Pvt Ltd
Pijikay International Exports P Ltd
Pisces Seafood International
Premier Exports International
Premier Marine Foods
Premier Marine Products#
Pronto Foods Pvt. Ltd
R F. Exports
R K Ice & Cold Storage
Raa Systems Pvt. Ltd
Rahul Foods (GOA)
Rahul International
Raj International
Raju Exports
Ramalmgeswara Proteins & Foods Ltd
Rameshwar Cold Storage
Ram's Assorted Cold Storage Ltd
Raunaq Ice & Cold Storage
Ravi Frozen Foods Ltd
Raysons Aquatics Pvt. Ltd
RBT Exports
Regent Marine Industries
Relish Foods
Rohi Marine Private Ltd
Royal Cold Storage (India) Pvt. Ltd
Royal Link Exports
Rubian Exports
Ruby Marine Foods
Ruchi Worldwide
RVR Marine Products
RVR Marine Products Private Limited
S A Exports
S B Agro (India) Ltd###
S Chanchala Combines
S K Exports (P) Ltd
SLS Exports Pvt. Ltd
S S International
Saanthi Seafoods Ltd
Sabri Food Products
Sagar Foods
Sagar Grandhi Exports Pvt. Ltd
Sagar Samrat Seafoods
Sagarvihar Fisheries Pvt. Ltd####
Sai Marine Exports Pvt. Ltd
Salet Seafoods Pvt Ltd
Samrat Middle East Exports (P) Ltd
Sanchita Marine Products P Ltd
Sandhya Marines Limited
Sarveshwari Ice & Cold Storage P Ltd
Satya Seafoods Private Limited
Satyam Marine Exports
Sawant Food Products
Sea Rose Marines (P) Ltd
Seagold Overseas Pvt. Ltd
Sealand Fisheries Ltd
Seaperl Industries
Selvam Exports Private Limited
Sharat Industries Ltd
Sharon Exports
Sheimar Seafoods Ltd
Shimpo Exports
Shipper Exporter National Steel
Siddiq Seafoods
Silver Seafood
Sita Marine Exports
Skyfish
Sonia Fisheries
Sourab
Sprint Exports
Sprint Exports Pvt. Ltd
Sree Vaialakshrm Exports
Sreevas Export Enterprises
Sri Chandrakantha Marine Exports Ltd
Sri Sakthi Marine Products P Ltd
Sri Satya Marine Exports
Sri Sidhi Freezers & Exporters Pvt. Ltd
Sri Venkata Padmavathi Marine Foods Pvt. Ltd
SSF Ltd
Star Agro Marine Exports Private Limited
Star Fish Exports
Sterling Foods
Sun-Bio Technology Limited###
Supreme Exports
Surya Marine Exports
Suryamitra Exim Private Limited
Suvarna Rekha Exports Private Limited
Suvarna Rekha Marines P Ltd
Swarna Seafoods Ltd
TBR Exports Pvt Ltd
Teekay Maine P. Ltd
The Canning Industries (Cochin) Ltd
The Waterbase Ltd
Theva & Company
Tony Harris Seafoods Ltd
Tri Marine Foods Pvt. Ltd
Trinity Exports
Tri-Tee Seafood Company
Triveni Fisheries P Ltd
Ulka Seafoods (P) Ltd
Uniroyal Marine Exports Ltd
Universal Cold Storage Ltd
Universal Cold Storage Private Limited#
Upasana Exports
Usha Seafoods
V Marine Exports
Vaibhav Sea Foods
Varnita Cold Storage
Veejay IMPEX
Veraval Marines & Chemicals P Ltd
Victoria Marine & Agro Exports Ltd
Vijayalaxmi Seafoods
Vinner Marine
Wellcome Fisheries Limited
Winner Seafoods
Wisdom Marine Exports
Z A. Food Products
Thailand: Certain Frozen Warmwater Shrimp, A-549-822 | 2/1/06-1/31/07
ACU Transport
Andaman Seafood Co., Ltd. *
Ampai Frozen Food Co., Ltd
Anglo-Siam Seafoods Co., Ltd
Applied DB Ind
AS Intermarine Foods Co., Ltd
Asia Pacific (Thailand) Co., Ltd. *****
Asian Seafoods Cold Storage Public Co., Ltd
Asian Seafoods Coldstorage (Suratthani) Company Limited
A. Watanachai Frozen Products Co., Ltd
Bangkok Dehydrated Marine Product Co., Ltd
Bright Sea Co., Ltd **
C P Mdse
C.Y. Frozen Food Co., Ltd
Capital Food Trade Limited
Chaiwarut Company Limited
Chaivaree Marine Products Co., Ltd
Chantaburi Seafood Co., Ltd. *
Chanthaburi Frozen Foods Co., Ltd. *
Charoen Pokphand Foods Public Co. Ltd
Chonburi L C
Chue Eie Mong Eak
Core Seafood Processing Co., Ltd
Crystal Frozen Foods
Daedong (Thailand) Co. Ltd
Daiei Taigen (Thailand) Co., Ltd
Dynamic Intertransport
Earth Food Manufacturing Co., Ltd
Euro-Asian International Seafoods Co., Ltd
Fait
Far East Cold Storage Co., Ltd
Findus (Thailand) Co., Ltd
Fishery Cold Storage Public
Fortune Frozen Foods (Thailand) Co., Ltd
Gallant Ocean (Thailand) Co., Ltd
Good Fortune Cold Storage Company Limited
Good Luck Product Co., Ltd
Grobest Frozen Foods Co, Ltd
H.A.M. International Co., Ltd
Haitai Seafood Co., Ltd
Heng Seafood Ltd. Part
Heritrade
HIC (Thailand) Co., Ltd
High Way International Co., Ltd
Instant Produce
I.T. Foods Industries Co., Ltd
International Pacific Marine Products
Inter-Oceanic Resources Co., Ltd ****
Inter-Pacific Marine Products Co., Ltd
Intersia Foods Co, Ltd
K D Trdg
KF Foods
K.L. Cold Storage Co., Ltd
Kiang Huat Sea Gull Trading Frozen Food Public Co., Ltd
Kingfisher Holdings Ltd ****
Klang Co., Ltd ***
Kitchens of the Ocean (Thailand) Ltd
Kongphop Frozen Foods Co., Ltd
Kosamut Frozen Foods Co., Ltd
Lee Heng Seafood Co., Ltd
Leo Transports
Li-Thai Frozen Foods Co., Ltd
Lucky Union Foods
MKF Interfood
Magnate & Syndicate Co., Ltd
Mahachai Food Processing Co., Ltd
Marine Gold Products Co., Ltd
May Ao Co., Ltd
May Ao Foods Co., Ltd
Merkur Co., Ltd
Ming Chao Ind Thailand
N&N Foods Co., Ltd
Namprik Maesri
Narong Seafood Co., Ltd ****
Nongmon SMJ Products
N R Instant Produce
Ongkorn Cold Storage Co., Ltd
Pacific Queen Co., Ltd
Pakfood Public Company Limited *****
Penta Impex
Phattana Frozen Food Co., Ltd. *
Phattana Seafood Co., Ltd. *
Piti Seafoods Co., Ltd
Premier Frozen Products Co., Ltd
Preserved Foods
Queen Marine Food Co., Ltd
Rayong Coldstorage (1987) Co., Ltd
S&D Marine Products Co., Ltd
S. Chaivaree Cold Storage Co., Ltd
S.C.C. Frozen Seafood Co., Ltd. *
SCT Co., Ltd
S Khonkaen Food Ind Public ****
SMP Food Products Co., Ltd
Samui Foods
Sea Bonanza Food Co., Ltd ****
Sea Wealth Frozen Food Co., Ltd
Seafoods Enterprise Co., Ltd
Seafresh Fisheries
Seafresh Industry Public Co., Ltd
Search & Serve
Shianlin Bangkok Co., Ltd. ***
Siam Canadian Foods Co., Ltd
Siam Food Supply Co., Ltd
Siam Intersea Co., Ltd
Siam Marine Products Co., Ltd
Siam Ocean Frozen Foods Co., Ltd
Siamchai International Food Co., Ltd
Sky Fresh
Smile Heart Foods Co. Ltd
Songkla Canning
Star Frozen Foods Co., Ltd
STC Foodpak Co., Ltd
Suntechthai Intertrdg
Surapon Foods Public Co., Ltd
Surapon Nichirei Foods Co., Ltd
Surat Seafoods Co., Ltd
Suratthani Marine Products Co., Ltd
Suree Interfoods
T.S.F. Seafood Co., Ltd
Tanaya Intl
Takzin Ssmut *****
Teppitak Seafood
Tey Seng Cold Storage Co., Ltd
Tep Kinsho Foods
Thai-ger Marine Co., Ltd
Thai Agri Foods Public Co., Ltd
Thai Excel Foods Co., Ltd
Thai I-Mei Frozen Foods Co., Ltd
Thai International Seafoods Co., Ltd. *
Thai Mahachai Seafood Products Co., Ltd
Thai Ocean Venture
Thai Prawn Culture Center Co., Ltd
Thai Royal Frozen Food Co. Ltd
Thai Spring Fish Co., Ltd
Thai Union Frozen Products Public Co., Ltd
Thai Union Mfg
Thai Union Seafood Co., Ltd
Thai World Imports & Exports
Thai Yoo
Thailand Fishery Cold Storage Public Co., Ltd. *
Thanaya Intl
The Siam Union Frozen Food Co., Ltd ****
The Union Frozen Products Co., Ltd. **
Trang Seafood Products Public Co., Ltd
Transamut Food Co., Ltd
United Cold Storage Co., Ltd
Wales & Co. Universe Ltd. *
Wann Fisheries Co., Ltd
Xian-Ning Seafood Co., Ltd
Y2K Frozen Foods Co., Ltd. *
Yeenin Frozen Foods Co., Ltd
Note 1—In the 2004-2006 administrative review, the Department preliminarily found that the following companies comprised a single entity: Aquática Maricultura do Brasil Ltda. and Aquafeed do Brasil Ltda. If the Department makes a final determination that these companies comprise a single entity in the 2004-2006 administrative review, we will also treat these companies as a single entity for purposes of this administrative review, absent information to the contrary.
Note 2—In the original investigation, the Department found that the following companies comprised a single entity: Central de Industrializacao e Distribuicao de Alimentos Ltda. and Cia. Exportadora de Produtos do Mar (Produmar).
(The company names “Central de Industria” and “Cida Central de Industria”, for which we also received requests for review, are variations of the name Central de Industrializacao e Distribuicao de Alimentos Ltda.) Absent information to the contrary, we intend to continue to treat these companies as a single entity for purposes of this Administrative review.
Note 3—We received a request for an administrative review of both Compescal—Comercio de Pescado Aracatiense Ltda. and Comercio de Pescado Aracatiense Ltda. There is a letter on the record of the 2004-2006 administrative review stating that these companies are the same. Therefore, we are initiating the 2006-2007 administrative review with respect to Compescal—Comercio de Pescado Aracatiense Ltda.
Note 4—In the original investigation, the Department found that the following companies comprised a single entity: Empresa de Armazenagem Frigorifica Ltda. and Maricultura Netuno S.A. (The company name “Empaf—Empresa de Armazenagem Frigorifica Ltda.”, for which we also received a request for review, is a variation of the name Empresa de Armazenagem Frigorifica Ltda.) Absent information to the contrary, we intend to continue to treat these companies as a single entity for purposes of this administrative review.
Note 5—We received requests for review of Marine Maricultura do Nordeste SA, Marine Maricultura do Nordeste and Marine Maricultura Nordeste SA. In the 2004-2006 administrative review, we confirmed that Marine Maricultura do Nordeste SA, Marine Maricultura do Nordeste and Marine Maricultura Nordeste SA are, in fact, the same company, and that the correct company name is Marine Maricultura do Nordeste SA. Therefore, we are initiating the 2006-2007 administrative review with respect to Marine Maricultura do Nordeste SA.
Note 6—The petitioners and/or the LSA's requests for review included certain companies with identical names but different addresses. For purposes of initiation, we have treated these companies as separate entities.
Note 7—We received a request for an administrative review of both Potiguar Alimenbtos do Mar Ltda. and Potiguar Aliments do Mar Ltda. In the 2004-2006 administrative review, the petitioners withdrew the request for review of Potiguar Alimenbtos do Mar Ltda. because the spelling of the company name contained a typographical error. The correct spelling of the company name is Potiguar Alimentos do Mar Ltda. Therefore, we are initiating the 2006-2007 administrative review with respect to Potiguar Alimentos do Mar Ltda., not Potiguar Alimenbtos do Mar Ltda.
‸ The LSA's requests for review included certain companies with similar names. For purposes of initiation, we have treated these companies as the same entity based on information obtained in the 2004-2006 administrative review.
# In the 2004-2006 administrative review, the Department preliminarily found that the following companies comprised a single entity: Devi Marine Food Exports Private Limited, Kader Investment and Trading Company Private Limited, Kader Exports Private Limited, Liberty Frozen Foods Private Limited, Liberty Oil Mills Limited, Premier Marine Products, and Universal Cold Storage Private Limited. If the Department makes a final determination that these companies comprise a single entity in the 2004-2006 administrative review, we will also treat these companies as a single entity for purposes of this administrative review, absent information to the contrary.
## In the 2004-2006 administrative review, the Department preliminarily found that Coastal Corporation Ltd. is the successor-in-interest to Coastal Trawlers Ltd. If the Department continues to make this finding in the final results of the 2004-2006 administrative review, we will rescind this review with respect to Coastal Trawlers Ltd.
### In the 2004-2006 administrative review, S B Agro (India) Ltd. informed the Department that it changed its name in January 2001 and it is now doing business as Sun-Bio Technology Limited. Therefore, in this review, the Department intends to request information from Sun-Bio Technology Limited. If we determine that S B Agro (India) Ltd. no longer exists, we will rescind the review with respect to this company name.
#### In the 2004-2006 administrative review, Sagarvihar Fisheries Pvt. Ltd. informed the Department that it is now doing business as Indepesca Overseas Pvt. Ltd. However, in the course of that review, petitioner withdrew its review request for Sagarvihar Fisheries Pvt. Ltd. Therefore, the Department will only include Sagarvihar Fisheries Pvt. Ltd. in this review (via its exports under the name Indepesca Overseas Pvt. Ltd.) if it determines that Indepesca Overseas Pvt. Ltd. is the successor in interest to this company.
##### The petitioner's and/or the LSA's requests for review included certain companies with identical names but different addresses. For purposes of initiation, we have treated these companies as separate entities.
###### The petitioner's and/or the LSA's requests for review included certain companies with similar names. For purposes of initiation, we have treated these companies as the same entity based on information obtained in the 2004-2006 administrative review.
* In the original investigation, the Department found that the following companies comprised a single entity: Andaman Seafood Co., Ltd., Chantaburi Seafood Co., Ltd., Chanthaburi Frozen Foods Co., Ltd., Phattana Seafood Co., Ltd., S.C.C. Frozen Seafood Co., Ltd., Thai International Seafoods Co., Ltd., Thailand Fishery Cold Storage Public Co., Ltd., Wales & Co. Universe Ltd., and Y2K Frozen Foods Co., Ltd. Absent information to the contrary, we intend to continue to treat these companies as a single entity for purposes of this administrative review.
** In the original investigation, the Department found that the following companies comprised a single entity: Union Frozen Products Co., Ltd. and Bright Sea Co., Ltd. Absent information to the contrary, we intend to continue to treat these companies as a single entity for purposes of this administrative review.
****The petitioner's and/or the LSA's requests for review included certain companies with identical names but different addresses. For purposes of initiation, we have treated these companies as separate entities.
**** The petitioner's and/or the LSA's requests for review included certain companies with identical names but different addresses. For purposes of initiation, we have treated these companies as the same entity based on information obtained in the 2004-2006 administrative review.
***** In the first administrative review of this proceeding, the Department preliminarily found that the following companies comprised a single entity: Pakfood Public Company Limited, Asia Pacific (Thailand) Co., Ltd. and Takzin Samut Company Limited. If the Department makes a final determination that these companies comprise a single entity in the 2004-2006 administrative review, we will also treat these companies as a single entity for purposes of this administrative review, absent information to the contrary.

Incomplete Requests for Review

We have not initiated administrative reviews with respect to the companies listed below which the Department was unable to locate in prior segments and for which no new information as to the party's location was provided by the requestor. Although the LSA requested that the Department reconsider this decision, we continue to find that it is inappropriate to initiate an administrative review of companies which we know that we cannot locate. Based on previous unsuccessful efforts by the Department to locate these companies, further efforts would be futile, absent new information as to their location.

Brazil

Aquamaris Aquaculture SA

Camaros do Brasil Ltda.

Camexim Captura Mec Exports Imports

Campi Camaroa do Piaui Ltda.

Juno Ind & Com de Pescados

Ortico

Produvale Produtos do Vale Ltda.

Seafarm Criacao E Comericio de Produtos Aquaticos Ltda.

SM Trading Industria E Comercio Ltda.

Terracor Tdg Exp. E Imp. Ltda.

Ecuador

Brimon, S.A.

India

Adani Exportse

Alfuzz Frozen Foods Pvt. Ltd.

AMI Enterprises

Baby Marine Sarass

Bengal Marine Pvt. Ltd.

Bluefin Enterprises

Central Calcutta Cold Storage

Exporter Coreline Exports

Fernando Intercontinental

Gadre Marine Exports

Galaxy Maritech Exports P. Ltd.

Indo Aquatics

Lourde Exports

Markoorlose Sea Foods

Msngr Aqua Intl

Noorani Exports Pvt. Ltd.

Overseas Marine Export

Premier Seafoods Exim (P) Ltd.

Razban Seafoods Ltd.

Reddy & Reddy Importers & Exports

Riviera Exports Pvt. Ltd.

S & S Seafoods

Safa Enterprises

Santhi Fisheries & Exports Ltd.

Shivaganga Marine Products

Shroff Processed Food & Cold ZStorage P Ltd.

Tim Tim Far East Export Trading Co.(P) Ltd

V.S Exim Pvt Ltd.

Thailand

Assoc. Commercial Systems

Daiho (Thailand) Co., Ltd.

Frozen Marine Products Co., Ltd.

Yong Siam Enterprise Co., Ltd.

Selection of Respondents

Section 777A(c)(1) of the Act directs the Department to calculate individual dumping margins for each known exporter and producer of the subject merchandise. Where it is not practicable to examine all known producers/exporters of subject merchandise because of the large number of such companies, section 777A(c)(2) of the Act permits the Department to limit its examination to either: (1) A sample of exporters, producers or types of products that is statistically valid based on the information available at the time of selection; or (2) exporters and producers accounting for the largest volume of subject merchandise from the exporting country that can be reasonably examined.

Due to the large number of firms requested for these administrative reviews and the resulting administrative burden to review each company for which a request has been made, the Department is exercising its authority to limit the number of respondents selected for review. See section 777A(c)(2) of the Act. In selecting the respondents for individual review, the Department intends to select the largest exporters/producers by U.S. sales/export volume.

Quantity and Value (“Q&V”) Questionnaire

In advance of issuance of the antidumping questionnaire, we will also be requiring all parties for whom a review is requested to respond to a Q&V questionnaire, which will request information on the respective quantity and U.S. dollar sales value of all exports of shrimp to the United States during the period February 1, 2006, through January 31, 2007. The Q&V questionnaire will be available on the Department's Web site at http://www.trade.gov/ia/. The responses to the Q&V questionnaire are due to the Department by close of business on April 23, 2007. Due to the time constraints imposed by our statutory and regulatory deadlines, the Department may be unable to grant any extensions for the submission of the Q&V questionnaire responses. In responding to the Q&V questionnaire, please refer to the instructions contained in the Q&V questionnaire.

All firms requested for review are required to submit a complete response to the Q&V questionnaire, within the time limits established in this notice of initiation, in order for such information to receive consideration. For parties that fail to timely respond to the Q&V questionnaire, the Department may resort to the use of facts otherwise available, and may employ an adverse inference if the Department determines that the party failed to cooperate by not acting to the best of its ability. See section 776 of the Act. All information submitted by respondents in these administrative reviews is subject to verification. See section 782 of the Act. Due to the large number of parties in these proceedings, and the Department's need to complete its proceedings within the statutory deadlines, the Department will be limited in its ability to extend deadlines on the above submissions. As noted above, the Q&V questionnaire will be available on the Department's Web site at http://www.trade.gov/ia/.

Interested parties must submit applications for disclosure under administrative protective orders in accordance with 19 CFR 351.305. Instructions for filing such applications may be found on the Department's Web site at http://www.trade.gov/ia/.

This initiation and notice are in accordance with section 751(a)(1) of the Act and 19 CFR 351.221(c)(1)(i).

Dated: April 2, 2007.
James P. Maeder,
Director, AD/CVD Operations, Office 2.

[FR Doc. E7-6504 Filed 4-5-07; 8:45 am]

BILLING CODE 3510-DS-P